DEPARTMENT OF HEALTH AND HUMAN SERVICES

National Institutes of Health

Request for Information on the Development of the Fiscal Year 2021-2025 Trans-NIH Strategic Plan for Sexual & Gender Minority Health Research

AGENCY: National Institutes of Health, HHS.

ACTION: Notice.

SUMMARY: Through this Request for Information (RFI), the Sexual & Gender Minority Research Office (SGMRO) in the Division of Program Coordination, Planning, and Strategic Initiatives (DPCPSI), Office of the Director (OD), National Institutes of Health (NIH), invites feedback from stakeholders throughout the scientific research community, clinical practice communities, patient and family advocates, scientific or professional organizations, federal partners, internal NIH stakeholders, and other interested constituents on the development of the fiscal years (FY) 2021-2025 Trans-NIH Strategic Plan for Sexual and Gender Minority Health Research. This plan will describe future directions in sexual and gender minority (SGM) health and research to optimize NIH's research investments.

DATES: The SGMRO's Request for Information is open for public comment for a period of 6 weeks. Comments must be received on or before COB (5:00 p.m. ET) January 24, 2020 to ensure consideration. After the public comment period has closed, the comments received by SGMRO will be considered in a timely manner for the development of the FY 2021-2025 Trans-NIH Strategic Plan for SGM Health Research.

ADDRESSES: Please see the supplementary information to view the draft scientific and operational goals. Comments are strongly encouraged to be submitted by email to SGMRO@nih.gov or by mail to: SGMRO, DPCPSI, NIH, 6555 Rock Spring Drive, Suite 220, Rm. 2SE31J, Bethesda, MD 20817. Please include strategic plan in the subject line.

FOR FURTHER INFORMATION CONTACT: Karen Parker, Ph.D., MSW, Director, Sexual & Gender Minority Research Office (SGMRO), 6555 Rock Spring Drive, Suite 220, Rm 2SE31K, Bethesda, MD 20817, klparker@mail.nih.gov, 301-451-2055.

SUPPLEMENTARY INFORMATION:

Background: “Sexual and gender minority” is an umbrella term that includes, but is not limited to, individuals who identify as lesbian, gay, bisexual, asexual, transgender, two-spirit, queer, and/or intersex. Individuals with same-sex or -gender attractions or behaviors and those with a difference in sex development are also included. These populations also encompass those who do not self-identify with one of these terms but whose sexual orientation, gender identity or expression, or reproductive development is characterized by non-binary constructs of sexual orientation, gender, and/or sex.

The Sexual and Gender Minority Research Office (SGMRO) coordinates sexual and gender minority (SGM)-related research and activities by working directly with the NIH Institutes, Centers, and Offices. The Office was officially established in September 2015 within the NIH Division of Program Coordination, Planning, and Strategic Initiatives (DPCPSI) in the Office of the Director.

In accordance with the 21st Century Cures Act, NIH is required to regularly update their strategic plans. In 2015, the NIH launched the NIH FY 2016-2020 Strategic Plan to Advance Research on the Health and Well-being of Sexual and Gender Minorities. The current strategic plan has provided the NIH with a framework to improve the health of SGM populations through increased research and support of scientists conducting SGM-relevant research. In January 2019, SGMRO published a mid-course review of the current NIH SGM strategic plan that provided recommendations to support further progress on the goals described therein. To establish NIH priorities in SGM health research for the next five years, SGMRO requests input from SGM health, research, and related communities in refining the goals of the FY 2021-2025 strategic plan.

Request for Comment on Draft Goals: The NIH is developing a strategic plan to advance SGM research over the next five years. The SGMRO invites input from stakeholders throughout the scientific research community, clinical practice communities, patient and family advocates, scientific or professional organizations, federal partners, internal NIH stakeholders, and other interested members of the public on the proposed framework. This input is a valuable component in developing the SGM research strategic plan, and the community's time and consideration are appreciated.

The populations considered under the SGM umbrella term are inclusive and captures all individuals and populations who do not self-identify with binary constructs of sexual orientation, gender, and/or sex. For the FY 2021-2025 strategic plan, the scientific goals will include a focus on specific populations on which the lack of research remains significant. Examples of such populations may include persons with differences in sex development (DSD), intersex, bisexual, transgender, gender nonconforming, persons who have detransitioned/desisted people, and SGM populations in Native communities.

In addition, overarching topics will be considered across all scientific research goal areas in order to help foster a deeper understanding of SGM health disparities. Topics to be considered include health equity, research across the life span, trauma-informed research, community and culturally grounded research, and strengths-based approaches. Scientific goal areas will also take into consideration intersectionality by recognizing overlapping and interconnected systems of oppression across different social categories and how they may compound health inequities. Examples of such categories may include ability status, age, race, ethnicity, incarceration status, veteran status, income level, and more.

The NIH has identified four scientific research goal areas:

• Clinical Research: Examples include outcomes related to various DSDs, and sexual reproduction and pregnancy outcomes

• Social & Behavioral Research: Examples include the coming out process, healthy sexuality, interpersonal violence, mental health, substance use and abuse (opioids, tobacco use, other drugs), suicide risk and prevention, and stigma and discrimination

• Chronic Diseases and Comorbidities Research: Examples include Alzheimer's Disease and Related Dementias (ADRD), cancer, diabetes, heart disease, HIV/AIDS, and infectious diseases

• Methods and Measures Research: Examples include culturally humble psychometrics, research on recruitment and sampling methods, particularly for most understudied SGM subgroups, and factors related to disclosure on surveys

The NIH has also identified four operational goal areas:

• Advance rigorous research on the health of SGM populations in both the extramural and intramural research communities

• Expand SGM health research by fostering partnerships and collaborations with a strategic array of internal and external stakeholders

• Foster a highly skilled and diverse workforce in the SGM health research

• Encourage data collection related to SGM populations in research and in the biomedical research workforce

The NIH seeks comments and/or suggestions from all interested parties on the proposed strategic plan goals.

Responses to this RFI are voluntary. Do not include any proprietary, classified, confidential, trade secret, or sensitive information in your response. The responses will be reviewed by NIH staff, and individual feedback will not be provided to any responder. The Government will use the information submitted in response to this RFI at its discretion. The Government reserves the right to use any submitted information on public NIH websites; in reports; in summaries of the state of the science; in any possible resultant solicitation(s), grant(s), or cooperative agreement(s); or in the development of future funding opportunity announcements.

This RFI is for information and planning purposes only and should not be construed as a solicitation for applications or proposals, or as an obligation in any way on the part of the United States Federal Government, the NIH, or individual NIH Institutes, Centers, and Offices to provide support for any ideas identified in response to it. The Federal Government will not pay for the preparation of any information submitted or for the Government's use of such information. No basis for claims against the U.S. Government shall arise as a result of a response to this RFI or from the Government's use of such information. Additionally, the Government cannot guarantee the confidentiality of the information provided.

Dated: December 6, 2019.
Lawrence A. Tabak,
Principal Deputy Director, National Institutes of Health.

[FR Doc. 2019-26915 Filed 12-12-19; 8:45 am]

BILLING CODE 4140-01-P